DEPARTMENT OF COMMERCE

Foreign-Trade Zones Board

[Docket 58-2005]

Foreign-Trade Zone 77—Memphis, TN; Expansion of Manufacturing Authority—Subzone 77B; Brother Industries (U.S.A.) Inc. (Manufacture/Refurbish Toner Cartridges)

An application has been submitted to the Foreign-Trade Zones Board (the Board) by the City of Memphis and Shelby County (Tennessee), Division of Planning and Economic Development, grantee of FTZ 77, to expand the scope of manufacturing authority for Brother Industries (U.S.A.) Inc. (Brother) under zone procedures within Subzone 77B, at the Brother plant located in Bartlett, Tennessee. The application was submitted pursuant to the Foreign-Trade Zones Act, as amended (19 U.S.C. 81a-81u), and the regulations of the Board (15 CFR part 400). It was formally filed on November 17, 2005.

Subzone 77B was approved by the Board in 1995 and is currently comprised of two sites in Bartlett, Tennessee. Authority was initially granted for the manufacture of typewriters and word processors (Board Order 774, 60 FR 48100-48101, 9/18/1995). Brother's manufacturing authority was later expanded to include postage franking machines/electronic business equipment (Board Order 1109, 65 FR 41625-41626, 7/6/2000).

Brother is now proposing to expand the scope of manufacturing activity conducted under zone procedures at Subzone 77B to include manufacturing/refurbishing toner cartridges. The finished toner cartridges fall into categories which enter the United States duty free. Brother's application indicates that foreign-sourced materials under the proposed expanded scope (toner; toner caps; collars, guards, and covers; seals; labels; developer rollers; bearings; springs; gears; retaining rings; washers; lower film; foil bags; and instruction sheets) have duty rates ranging from duty-free to 6.5% ad valorem.

Expanded subzone manufacturing authority would enable Brother to choose the lower duty rate that applies to the new finished products for foreign components, when applicable, on shipments to the U.S. market. Brother indicates that it will also realize logistical/procedural and other benefits related to the proposed expanded scope of manufacturing. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is January 31, 2006. Rebuttal comments in response to material submitted during the foregoing period may be submitted during the subsequent 15-day period to February 15, 2006.

A copy of the application and accompanying exhibits will be available for public inspection at the Office of the Foreign-Trade Zones Board's Executive Secretary at address Number 1 listed above, and at the Memphis U.S. Export Assistance Center, c/o Memphis Regional Chamber of Commerce, 22 North Front Street, Suite 200 Memphis, TN 38103.

Dated: November 17, 2005.
Dennis Puccinelli,
Executive Secretary.

[FR Doc. E5-6784 Filed 12-1-05; 8:45 am]

BILLING CODE 3510-DS-P